DEPARTMENT OF THE INTERIOR

Fish and Wildlife Service

[FWS-R4-ES-2016-N031; FF04E00000-167-FXES11150400000]

Department of Defense; Proposed Gopher Tortoise Conservation and Crediting Strategy

AGENCY: Fish and Wildlife Service, Interior.

ACTION: Notice of availability; request for comment.

SUMMARY: We, the U.S. Fish and Wildlife Service (Service), announce the availability for comment of a proposed “Gopher Tortoise Conservation and Crediting Strategy” to be implemented in Alabama, Georgia, Florida, and South Carolina, where the gopher tortoise occurs but is unlisted.

DATES: We must receive any written comments at our Regional Office (see ADDRESSES) on or before June 9, 2016.

ADDRESSES: To request further information, review documents, or submit written comments, please use the following methods and specify that your information request or comments are in reference to the “DOD Gopher Tortoise Conservation and Crediting Strategy.”

• Internet: Documents may be viewed and downloaded on the Internet at http://www.fws.gov/southeast/candidateconservation/examples.html.

• Email: michael_harris@fws.gov. Include “DOD Gopher Tortoise Conservation and Crediting Strategy” in the subject line of your message.

• U.S. Mail: Mr. Michael Harris, At-Risk Species Coordinator, Fish and Wildlife Service, Southeast Regional Office, 1875 Century Boulevard, Atlanta, GA 30345.

• In-Person Drop-off, Viewing, or Pickup: Call 404-679-7066 to make an appointment (necessary for viewing or pickup only) during regular business hours at the Fish and Wildlife Service's Regional Office, 1875 Century Boulevard, Suite 200, Atlanta, GA 30345. Written comments can be dropped off during regular business hours at the above address on or before the closing date of the public comment period (see DATES). Note that requests for any documents must be in writing to be processed.

FOR FURTHER INFORMATION CONTACT: Mr. Michael Harris, At-Risk Species Coordinator, at the Regional Office (see ADDRESSES), telephone: 404-679-7066. If you use a telecommunications device for the deaf (TDD), please call the Federal Information Relay Service (FIRS) at 800-877-8339.

SUPPLEMENTARY INFORMATION:

Introduction

We announce the availability for comment of a proposed “Gopher Tortoise Conservation and Crediting Strategy” (Strategy) for implementation in Alabama, Georgia, Florida, and South Carolina (Strategy Area), where the gopher tortoise (Gopherus Polyphemus) occurs but is unlisted. The Strategy Area is within the historic range of the species. The Strategy would enable the military services of the Department of Defense to generate conservation credits to be used to offset impacts to the gopher tortoise from military training and operations if the species were to be listed as “threatened” or “endangered” under the Endangered Species Act of 1973, as amended (Act), in the future.

Strategy

The Strategy was developed by the Service in conjunction with the following State wildlife agencies: Wildlife and Freshwater Fisheries Division of the Alabama Department of Conservation and Natural Resources; Florida Fish and Wildlife Conservation Commission; Wildlife Resources Division of the Georgia Department of Natural Resources; and, the South Carolina Department of Natural Resources. The Strategy describes conservation activities designed to protect and enhance habitats for the gopher tortoise on lands that have been permanently protected in the Strategy Area. The focus of the conservation activities would be the areas where significant gopher tortoise populations, as identified through population and habitat analyses conducted by the Service and the State wildlife agencies, could be conserved.

Under the Strategy, the military services would voluntarily agree to undertake specified conservation activities to conserve gopher tortoise populations and habitat within the Strategy Area. The suite of conservation activities that could be performed includes land acquisition for the permanent protection of populations of the species; enhancement, restoration, or maintenance of the species' habitat via prescribed fire and thinning to maintain forest habitats and control of invasive exotic species; and/or, translocation of gopher tortoises to augment existing populations in permanently protected conservation areas within the Strategy Area.

The military services could generate and accumulate Gopher Tortoise Conservation Credits (GTCCs) for undertaking the conservation activities set forth in the Strategy. Those GTCCs could, in turn, be tendered to the Service to offset impacts to the species from training operations were the gopher tortoise to be federally-listed as “threatened” or “endangered” in the portion of the Strategy Area where the impacts occurred. Pursuant to 50 CFR 402.14 (g)(8), during formal consultation under section 7 of the Act, the Service must “give appropriate consideration to any beneficial actions taken by the Federal agency or applicant, including any actions taken prior to the initiation of consultation.”

We specifically request information, views, and opinions from the public via this notice on the proposed Strategy. We will evaluate the Strategy under section 7 of the Act as a programmatic action as defined in 50 CFR 402.02. As a framework programmatic action, we have determined that the Strategy qualifies for categorical exclusion under the National Environmental Policy Act (NEPA) in accordance with the Department of the Interior's NEPA implementing regulations in Part 46 of Title 43 of the Code of Federal Regulations (43 CFR sections 46.205, 46.210, and 46.215). We will conduct independent NEPA evaluations of each project undertaken by the military services under this Strategy as such is proposed.

Public Comments

Before including your address, phone number, email address, or other personal identifying information in your comment, you should be aware that your entire comment—including your personal identifying information—may be made publicly available at any time. While you can ask us in your comment to withhold your personal identifying information from public review, we cannot guarantee that we will be able to do so.

Next Steps

Prior to making a final decision on whether to approve the Strategy, we will evaluate the Strategy and fully consider all comments received during the 30-day comment period. We also will conduct an intra-Service section 7 consultation to determine whether the Strategy meets the requirements of section 7 of the Act. If we determine that the requirements are met, we will approve and adopt the Strategy for implementation in accordance with the applicable regulatory requirements, including 50 CFR 402.14(g)(8).

Authority

We provide this notice under section 7 of the Act (16 U.S.C. 1531 et seq.) and NEPA regulations (40 CFR 1506.6).

Dated: April 20, 2016.
Mike Oetker,
Deputy Regional Director.

[FR Doc. 2016-10939 Filed 5-9-16; 8:45 am]

BILLING CODE 4333-15-P